DEPARTMENT OF DEFENSE

Office of the Secretary

Federal Advisory Committee; Quadrennial Defense Review Independent Panel

AGENCY: Department of Defense (DoD).

ACTION: Disestablishment of Federal advisory committee.

SUMMARY: The Department of Defense announced on October 1, 2009 (74 FR 50781) that the Quadrennial Defense Review Independent Panel (hereafter referred to as the Panel), which was established by 10 U.S.C. 118f, would operate under the provisions of the Federal Advisory Committee Act of 1972, (5 U.S.C. Appendix), the Government in the Sunshine Act of 1976 (5 U.S.C. 552b). The Department has determined that the Panel is a legislative advisory committee that works for and reports to the Legislative Branch; therefore, the Department is withdrawing the Panel's charter.

FOR FURTHER INFORMATION CONTACT: Jim Freeman, Deputy Committee Management Officer for the Department of Defense, 703-601-6128.

SUPPLEMENTARY INFORMATION: After further consideration the Office of the Committee Management Officer for the Department of Defense, in consultation with the Office of the General Counsel for the Department of Defense, has determined that the Panel is in fact a legislative advisory committee; that is, it works for and reports to the Legislative Branch.

Therefore, the Panel is not subject to the provisions of the Federal Advisory Committee Act of 1972 or the Government in the Sunshine Act of 1976. Accordingly, the Department of Defense is withdrawing the Panel's charter that was filed with the Committee Management Secretariat for the General Services Administration, the congressional oversight committees and the Library of Congress.

The removal of the Panel's charter and its status under the Federal Advisory Committee Act of 1972 has no impact on the provisions of 10 U.S.C. 118f, as amended, that require the establishment of the Panel and its subsequent recommendations to Congress.

Dated: January 29, 2010.
Mitchell S. Bryman,
Alternate OSD Federal Register Liaison Officer, Department of Defense.

[FR Doc. 2010-2258 Filed 2-2-10; 8:45 am]

BILLING CODE 5001-06-P